DEPARTMENT OF THE INTERIOR

National Park Service

[NPS-WASO-PCE-LWCF-NPS0034077; PPWOSLAD00 PGWS1S181.Y00000 XXXP503581 PS.SSLAD0R21.00.1 (222); OMB Control Number 1024-0031]

Agency Information Collection Activities; Land and Water Conservation Fund State Assistance Program

AGENCY: National Park Service, Interior.

ACTION: Notice of information collection; request for comment.

SUMMARY: In accordance with the Paperwork Reduction Act of 1995, we, the National Park Service (NPS) are proposing to renew an information collection.

DATES: Interested persons are invited to submit comments on or before November 14, 2022.

ADDRESSES: Send your comments on this information collection request (ICR) by mail to the NPS Information Collection Clearance Officer (ADIR-ICCO), 12201 Sunrise Valley Drive, (MS -242) Reston, VA 20191 (mail); or by email at phadrea_ponds@nps.gov (email). Please reference Office of Management and Budget (OMB) Control Number 1024-0031 in the subject line of your comments.

FOR FURTHER INFORMATION CONTACT: To request additional information about this ICR, contact Elisabeth Fondriest, Recreation Grant Programs Chief by email at elisabeth_fondriest@nps.gov; or by telephone at 202-354-6916. Please reference OMB Control Number 1024-0031 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Land and Water Conservation Fund Act of 1965, as amended (LWCF Act) (54 U.S.C. 200301 et. seq.) was enacted to help preserve, develop, and ensure access for the public to outdoor recreation opportunities. Among other programs, the LWCF Act provides funds for and authorizes federal assistance to the States for planning, acquisition, and development of needed land and water areas and facilities for outdoor recreation purposes. In accordance with the LWCF Act, the National Park Service (we, NPS) administers the LWCF State Assistance Program, which provides matching grants to States.

LWCF grants are provided to states (including the 50 states; the Commonwealths of Puerto Rico and the Northern Mariana Islands; the District of Columbia; and the Territories of Guam, the U.S. Virgin Islands, and American Samoa) on a matching basis for up to 50 percent of the total project-related allowable costs. Grants to eligible insular areas may be for 100 percent assistance. Payments for all projects are made to the state organization that is authorized to accept and administer funds paid for approved projects. Local units of government participate in the program as sub-grantees of the state with the state retaining primary grant compliance responsibility.

Title of Collection: Land and Water Conservation Fund State Assistance Program.

OMB Control Number: 1024-0031.

Form Number: NPS Forms 10-902A, 10-903, 10-904, 10-904A, and 10-905.

Type of Review: Extension of a currently approved collection.

Respondents/Affected Public: States Governments; the Commonwealths of Puerto Rico and the Northern Mariana Islands; the District of Columbia; and the territories of Guam, U.S. Virgin Islands, and American Samoa.

Total Estimated Number of Annual Respondents: 423.

Total Estimated Number of Annual Responses: 7,105.

Total Estimated Number of Annual Burden Hours: 52,467.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-19573 Filed 9-9-22; 8:45 am]

BILLING CODE 4312-52-P